DEPARTMENT OF TRANSPORTATION

Federal Railroad Administration

[Docket Number FRA-2018-0100]

Petition for Extension of Waiver of Compliance

Under part 211 of title 49 Code of Federal Regulations (CFR), this document provides the public notice that on July 27, 2021, Norfolk Southern Corporation (NS) petitioned the Federal Railroad Administration (FRA) for an amendment of a waiver of compliance from certain provisions of the Federal railroad safety regulations contained at 49 CFR part 232, Brake System Safety Standards for Freight and Other Non-Passenger Trains and Equipment; End-of-Train Devices. The relevant FRA Docket Number is FRA-2018-0100.

Specifically, NS requests to amend an existing waiver from the requirements of 49 CFR 232.203, Training requirements, to allow electronic air brake test refresher training via customized simulation software in place of hands-on training. The current waiver applies to conductors and supervisors and is limited to an 18-month pilot program for freight car repair personnel reporting for duty at Birmingham, Alabama; Elkhart, Indiana; Enola, Pennsylvania; Kansas City, Missouri; Macon, Georgia; Norfolk, Virginia; and Portsmouth, Ohio.

As the pilot period has concluded, NS requests to amend the waiver to allow electronic air brake test training as an optional replacement for hands-on training for refresher training of freight car repair personnel on the entire NS system. In support of its request, NS states that (1) all personnel intended for inclusion have already received electronic training; (2) feedback from electronically-trained personnel has been positive; (3) delivering training electronically achieves safety benefits; and (4) NS has improved the training since the original pilot waiver was granted.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by October 12, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-18509 Filed 8-26-21; 8:45 am]

BILLING CODE 4910-06-P